DEPARTMENT OF TRANSPORTATION

Federal Aviation Administration

14 CFR Part 39

[Docket No. FAA-2005-22523; Directorate Identifier 2005-NM-058-AD; Amendment 39-17379; AD 2013-05-07]

RIN 2120-AA64

Airworthiness Directives; The Boeing Company Airplanes

AGENCY: Federal Aviation Administration (FAA), DOT.

ACTION: Final rule.

SUMMARY: We are adopting a new airworthiness directive (AD) for certain The Boeing Company Model 767 airplanes. This AD was prompted by reports of stiff operation of the elevator pitch control system and jammed elevator controls. This AD requires replacing pressure seal assemblies; doing repetitive inspections for dirt, loose particles, or blockage of the flanged tube and drain hole for the pressure seals, and corrective action if necessary; replacing the aft air-intake duct assembly with a new or modified assembly and installing a dripshield; and installing gutters on the horizontal stabilizer center section and modifying the side brace fittings. We are issuing this AD to prevent moisture from collecting and freezing on the elevator control system components, which could limit the ability of the flightcrew to make elevator control inputs and result in reduced controllability of the airplane.

DATES: This AD is effective April 25, 2013.

The Director of the Federal Register approved the incorporation by reference of certain publications listed in the AD as of April 25, 2013.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

SUPPLEMENTARY INFORMATION:

Discussion

We issued a supplemental notice of proposed rulemaking (SNPRM) to amend 14 CFR part 39 to include an airworthiness directive (AD) that would apply to the specified products. That SNPRM published in the Federal Register on August 9, 2012 (77 FR 47563). The original NPRM (70 FR 56386, September 27, 2005) proposed to require drilling a drain hole in the flanged tubes for certain elevator control cable aft pressure seals; doing repetitive inspections for dirt, loose particles, or blockage of the flanged tube and drain hole for the pressure seals, and corrective action if necessary; replacing the aft air-intake duct assembly with a new or modified assembly and installing a dripshield; and installing gutters on the horizontal stabilizer center section and modifying the side brace fittings. The SNPRM proposed to revise the NPRM by requiring replacement of pressure seal assemblies, rather than the proposed drilling of drain holes; revising a certain compliance time and inspection type; adding certain optional actions; and revising the applicability.

Comments

We gave the public the opportunity to participate in developing this AD. The following presents the comments received on the SNPRM (77 FR 47563, August 9, 2012) and the FAA's response to each comment. One commenter, Natalia Budyldina, stated the SNPRM is significant since it is related to airplane safety, would let the pilot better control the airplane, and would reduce airplane delays due to technical problems.

Request To Allow Installing New or Modified Aft Air-Intake Duct Assemblies

UPS requested that we revise paragraph (i) of the SNPRM (77 FR 47563, August 9, 2012) to clarify if operators are allowed to install a “new or reworked duct” on all affected airplanes or if operators must strictly follow the service information. UPS stated that paragraph (i) of the SNPRM requires installation of a “new or modified” aft air-intake duct assembly in accordance with Boeing Service Bulletin 767-49A0035, Revision 2, dated June 2, 2006, which specifies to install a new duct assembly on the first airplane modified in an operator's fleet and to install reworked duct assemblies on the operator's remaining fleet.

We agree that installing either new or reworked duct assemblies on all airplanes in an operator's fleet addresses the identified unsafe condition. We have revised paragraph (i) of this AD to refer to new paragraph (k)(8) of this AD, which states that where Boeing Service Bulletin 767-49A0035, Revision 2, dated June 2, 2006, specifies installing a new aft air-intake duct assembly on the first airplane in each operator's fleet and installing a reworked aft air-intake duct assembly on all remaining airplanes in each operator's fleet, this AD requires installing either a new or reworked aft air-intake duct assembly on all airplanes.

Request To Extend Compliance Time

Boeing requested that, for airplanes on which Boeing Service Bulletin 767-27A0219 has been done, we extend the compliance time specified in paragraph (g)(1)(ii) of the SNPRM (77 FR 47563, August 9, 2012) from 6 months to 24 months after the effective date of the AD for the inspections specified in Boeing Service Bulletin 767-27-0204, Revision 2, dated August 16, 2011; and Boeing Service Bulletin 767-27-0205, Revision 2, dated August 30, 2011. Boeing stated that the 24-month compliance time, which will allow operators to incorporate the drain hole inspection into a standard maintenance interval, is supported by the Boeing analysis in which the compliance recommendation for Boeing Service Bulletin 767-27-0204, Revision 2, dated August 16, 2011; and Boeing Service Bulletin 767-27-0205, Revision 2, dated August 30, 2011, was formulated.

We agree. We have determined that, for airplanes on which Boeing Service Bulletin 767-27A0219 has been done as of the effective date of this AD, a compliance time of within 24 months will provide an acceptable level of safety for accomplishing the inspection required by paragraph (g) of this AD. We have revised paragraph (g)(1) of this AD accordingly (and removed paragraphs (g)(1)(i) and (g)(1)(ii) of the SNPRM (77 FR 47563, August 9, 2012)).

Request To Add Exception for Group 4 Airplanes Identified in Boeing Service Bulletin 767-27A0224, Revision 1, Dated December 16, 2011

Boeing requested that we add an exception for Group 4 airplanes identified in Boeing Service Bulletin 767-27A0224, Revision 1, dated December 16, 2011, to allow operators that have replaced the configuration having two seal plates (part numbers (P/Ns) 255T4847-1 and 65-28174-1) with the configuration having one seal plate (P/N 255T4847-5) to omit the removal/installation of the kept part, named “SEAL PLATE ASSEMBLY,” while performing Figures 7 through 10 of Boeing Service Bulletin 767-27A0224, Revision 1, dated December 16, 2011. Boeing also stated that Group 1 though 3 airplanes can use the two-part configuration as an alternative to the one-part configuration while performing Figure 1 and Figures 4 through 6 of Boeing Service Bulletin 767-27A0224, Revision 1, dated December 16, 2011. Boeing stated the installation of P/N 255T4847-5 is equivalent to the combination of P/Ns 255T4847-1 and 65-28174-1 for the purposes of Boeing Service Bulletin 767-27A0224, Revision 1, dated December 16, 2011.

We agree to add an exception to this AD, for the reasons provided by the commenter. We have revised paragraphs (h) and (l) of this AD to refer to new paragraphs (k)(9) and (k)(10) of this AD:

• Paragraph (k)(9) of this AD specifies, for Group 4 airplanes, as identified in Boeing Service Bulletin 767-27A0224, Revision 1, dated December 16, 2011, that where Figures 7 through 10 of Boeing Service Bulletin 767-27A0224, Revision 1, dated December 16, 2011, specify to replace the seal plate assembly, this AD allows replacing the configuration having two seal plates, P/Ns 255T4847-1 and 65-28174-1, with the configuration having one seal plate, P/N 255T4847-5.

• Paragraph (k)(10) to this AD specifies, for Group 1 through 3 airplanes, as identified in Boeing Service Bulletin 767-27A0224, Revision 1, dated December 16, 2011, that where Figures 1 and Figures 4 through 6 of Boeing Service Bulletin 767-27A0224, Revision 1, dated December 16, 2011, specify to replace the seal plate, this AD allows replacing the configuration having one seal plate, P/N 255T4847-5, with the configuration having two seal plates, P/Ns 255T4847-1 and 65-28174-1.

Request for Exception To Allow Installation of Clamp

Boeing requested that we allow installation of a clamp, P/N AN735-( ), having a larger diameter than the clamp specified in steps 8 and 9 of Figure 4 and steps 8 and 9 of Figure 8 of Boeing Service Bulletin 767-27A0224, Revision 1, dated December 16, 2011. Boeing stated that the existing flanged tube may have a repair that increases its diameter and that installation of a clamp, P/N AN735-( ), of increased diameter would be necessary in order to meet the clamp installation specifications.

We agree to allow installation of the larger clamps, P/N AN735-( ), as requested. We have revised paragraphs (h) and (l) to refer to new paragraph (k)(11) of this AD, which specifies that where steps 8 and 9 of Figure 4 and steps 8 and 9 of Figure 8 of Boeing Service Bulletin 767-27A0224, Revision 1, dated December 16, 2011, specify installing clamp P/N AN735-16, this AD allows, for airplanes having increased diameter of the flanged tube due to a repair, installation of a clamp, P/N AN735-( ), that has a larger diameter than P/N AN735-16.

Request To Allow Substitute Fasteners

Boeing requested that we allow substitute fasteners (bolts) for the bolts specified in Figures 6 and 10 of Boeing Service Bulletin 767-27A0224, Revision 1, dated December 16, 2011. Boeing stated that bolts, P/N BACB30NT3K( ), BACB30LK3-( ), BACB30ZG3-( ), and NAS623-3-( ), are substitutes for the bolts specified in steps 1 and 4 of Figure 6 and steps 1 and 4 of Figure 10 of Boeing Service Bulletin 767-27A0224, Revision 1, dated December 16, 2011. Boeing stated that airplanes were delivered with those other equivalent part numbers and that the structural repair manual may not specify that these bolts are acceptable substitutes.

We agree to add an exception to this AD for the reason provided by the commenter. We have revised paragraphs (h) and (l) to refer to new paragraph (k)(12) of this AD, which specifies that where steps 1 and 4 of Figure 6 and steps 1 and 4 of Figure 10 of Boeing Service Bulletin 767-27A0224, Revision 1, dated December 16, 2011, specify installing bolts, this AD allows installation of bolts having P/N BACB30NT3K( ), BACB30LK3-( ), BACB30ZG3-( ), or NAS623-3-( ).

Request To Allow Exception for Operators That Have Done a Replacement

Boeing requested that we add an exception for airplanes identified as Group 1, Configuration 2 through 4 airplanes, Group 2 and 3 airplanes, and Group 4, Configuration 2 through 4 airplanes, in Boeing Service Bulletin 767-27A0224, Revision 1, dated December 16, 2011 (we referred to that service bulletin as the appropriate source of service information for accomplishing the replacement required by paragraph (h) of the SNPRM (77 FR 47563, August 9, 2012), and the optional replacement specified in paragraph (l) of the SNPRM). Boeing stated the exception would allow operators that replaced a flanged tube with a new flanged tube as a repair (after accomplishing Boeing Service Bulletin 767-27A0224, Revision 1, dated December 16, 2011) to install the replacement flanged tube without restoring the drain hole and clamp. Boeing stated that replacement flanged tubes do not have a pre-drilled drain hole, and it is unnecessary to restore the configuration with the drain hole and clamp to cover the drain hole.

We disagree with the request to add an exception to this AD for operators that have accomplished the replacement specified in paragraph (h) or (l) of this AD. Boeing did not submit information (e.g., what specific replacement parts are acceptable) to substantiate that this method of compliance with paragraphs (h) and (l) of this AD addresses the identified unsafe condition. Once we issue this AD, any person may request approval of an AMOC under the provisions of paragraph (n) of this AD. We have not changed this AD in this regard.

Request To Confirm Credit for a Certain Boeing Service Bulletin

United Airlines requested we confirm that credit is provided for previous accomplishment of Boeing Service Bulletin 767-51A0027, Revision 1, dated October 12, 2006. United Airlines noted that paragraph (m)(4) of the SNPRM (77 FR 47563, August 9, 2012) provides credit for Boeing Alert Service Bulletin 767-51A0027, dated December 9, 2004.

We agree to clarify. This AD does provide credit for previous accomplishment (i.e., before the effective date of this AD) of Boeing Service Bulletin 767-51A0027, Revision 1, dated October 12, 2006 (the appropriate source of service information for certain Model 767-200, -300, and -300F series airplanes for accomplishing the actions required by paragraph (j) of this AD). Paragraph (f) of this AD states: “Comply with this AD within the compliance times specified, unless already done.” The intent of paragraph (f) of this AD is to allow credit for previous accomplishment of the service information required by the AD.

For previous issues of required service information, each AD specifies in a separate paragraph whether credit is given for those previous issues. Paragraph (m)(4) of this AD provides credit for Boeing Alert Service Bulletin 767-51A0027, dated December 9, 2004, which is the previous issue of the required service bulletin, Boeing Service Bulletin 767-51A0027, Revision 1, dated October 12, 2006. We have not changed this AD in this regard.

Request To Clarify Paragraphs (g) and (h) of the SNPRM (77 FR 47563, August 9, 2012)

UPS requested that we clarify the requirements of paragraphs (g) and (h) of the SNPRM (77 FR 47563, August 9, 2012). UPS stated that paragraph (g) of the SNPRM requires inspections in accordance with the work instructions contained in Boeing Service Bulletin 767-27-0204, Revision 2, dated August 16, 2011, and that Boeing Service Bulletin 767-27-0204, Revision 2, dated August 16, 2011, lists Boeing Service Bulletin 767-27A0219, Revision 1, dated February 12, 2009, as a “concurrent requirement.” UPS asked if the intent of paragraph (g) of the SNPRM is to mandate the inspections without the “concurrent requirement” of the modification specified in Boeing Service Bulletin 767-27A0219, Revision 1, dated February 12, 2009. UPS stated that if the intent is to require the inspections and the modifications, then paragraph (h) of the SNPRM should read: “Accomplishing this replacement terminates the inspections and modification required by paragraph (g) of this AD.”

We agree to clarify. Paragraph (g) of this AD requires that inspections specified in Boeing Service Bulletin 767-27-0204, Revision 2, dated August 16, 2011, be done. The compliance time for doing those inspections is dependent on whether or not any revision of “Boeing Service Bulletin 767-27A0219” has been done, as specified in paragraphs (g)(1) and (g)(2) of this AD; however, paragraph (g) of this AD does not require that the modification specified in Boeing Service Bulletin 767-27A0219, Revision 1, dated February 12, 2009, must be done. We have not changed this AD in this regard.

Request for Flexibility in Use of Abrasive

UPS requested that we allow flexibility in the use of abrasive specified in Figure 5 of Boeing Service Bulletin 767-27A0224, Revision 1, dated December 16, 2011. UPS stated that paragraph (h) of the SNPRM (77 FR 47563, August 9, 2012) would require accomplishment of that service bulletin. (Paragraph (l) of the SNPRM would also require that service bulletin, if the actions in paragraph (l) of the SNPRM are done.) UPS stated that Figure 5 specifies to use an abrasive to prepare for adhesive application and that “80-grit is recommended.” UPS also noted that Figure 5 refers to standard overhaul practices manual (SOPM) 20-50-12 for adhesive mixing and surface cleaning. UPS asked if operators are allowed the flexibility offered by the SOPM.

We agree that there is flexibility in the use of abrasive specified in Figure 5 of Boeing Service Bulletin 767-27A0224, Revision 1, dated December 16, 2011. There is no requirement in this AD that mandates the use of 80-grit abrasive. As noted by the commenter, Figure 5 of Boeing Service Bulletin 767-27A0224, Revision 1, dated December 16, 2011, only recommends the use of 80-grit abrasive and includes a reference to SOPM 20-50-12. Similarly, Figures 4, 8, and 9 of Boeing Service Bulletin 767-27A0224, Revision 1, dated December 16, 2011, only recommend the use of 80-grit abrasive. Operators may use an abrasive of the specific grit referenced in SOPM 20-50-12 to accomplish the actions specified in steps 1 and 2 of Figures 4, 5, 8, and 9 of Boeing Service Bulletin 767-27A0224, Revision 1, dated December 16, 2011. We have not changed this AD in this regard.

Request To Revise Effectivity Listed in the Preamble of the SNPRM (77 FR 47563, August 9, 2012)

Boeing requested that we revise the effectivity for Boeing Service Bulletin 767-27-0204, Revision 2, dated August 16, 2011, specified in the “Actions Since Previous NPRM (70 FR 56386, September 27, 2005) was Issued” section of the preamble of the SNPRM (77 FR 47563, August 9, 2012). Boeing stated that the effectivity listed in the SNPRM should be revised to include line numbers 972 through 974 to match the effectivity listed in Boeing Service Bulletin 767-27-0204, Revision 2, dated August 16, 2011.

We acknowledge that the effectivity of Boeing Service Bulletin 767-27-0204, Revision 2, dated August 16, 2011, is line numbers 225, 226, 228 through 717, and 719 through 971, except airborne warning and control system (AWACS) airplanes; and line numbers 972 through 974. However, the “Actions Since Previous NPRM (70 FR 56386, September 27, 2005) was Issued” section of the SNPRM (77 FR 47563, August 9, 2012) is not restated in this AD. We have not changed this AD in this regard.

Conclusion

We reviewed the relevant data, considered the comments received, and determined that air safety and the public interest require adopting the AD with the changes described previously—and minor editorial changes. We have determined that these minor changes:

• Are consistent with the intent that was proposed in the SNPRM (77 FR 47563, August 9, 2012) for correcting the unsafe condition; and

• Do not add any additional burden upon the public than was already proposed in the SNPRM (77 FR 47563, August 9, 2012).

We also determined that these changes will not increase the economic burden on any operator or increase the scope of the AD.

Costs of Compliance

We estimate that this AD affects about 400 airplanes of U.S. registry.

We estimate the following costs to comply with this AD:

Estimated Costs
Action | Labor cost | Parts cost | Cost per product | Cost on U.S. operators
Inspection of the flanged tube and drain hole (300 airplanes) | 2 work-hours × $85 per hour = $170 per inspection cycle | $0 | $170 per inspection cycle | $51,000 per inspection cycle.
Pressure seal replacement (300 airplanes) | 7 work-hours × $85 per hour = $595 | 261 | $856 | $256,800.
Aft air-intake duct assembly replacement and dripshield installation (358 airplanes) | 3 work-hours × $85 per hour = $255 | 1,462 | $1,717 | $614,686.
Horizontal stabilizer gutter installation and modification of the side brace fittings (354 airplanes) | 12 work-hours × $85 per hour = $1,020 | 1,902 | $2,922 | $1,034,388.

We estimate the following costs to do any necessary cleaning that would be required based on the results of the inspection. We have no way of determining the number of aircraft that might need this cleaning.

On-Condition Costs
Action | Labor cost | Parts cost | Cost per product
Cleaning | 1 work-hour × $85 per hour = $85 | $0 | $85

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-07 The Boeing Company: Amendment 39-17379; Docket No. FAA-2005-22523; Directorate Identifier 2005-NM-058-AD.

(a) Effective Date

This AD is effective April 25, 2013.

(b) Affected ADs

None.

(c) Applicability

This AD applies to The Boeing Company Model 767-200, -300, -300F, and -400ER series airplanes, certificated in any category; as identified in the service information specified in paragraphs (c)(1), (c)(2), (c)(3), (c)(4), (c)(5), and (c)(6) of this AD.

(1) Boeing Service Bulletin 767-27A0224, Revision 1, dated December 16, 2011.

(2) Boeing Service Bulletin 767-49A0035, Revision 2, dated June 2, 2006.

(3) Boeing Service Bulletin 767-27-0204, Revision 2, dated August 16, 2011.

(4) Boeing Service Bulletin 767-27-0205, Revision 2, dated August 30, 2011.

(5) Boeing Service Bulletins 767-51A0027, Revision 1, dated October 12, 2006.

(6) Boeing Service Bulletin 767-51A0028, Revision 1, dated October 12, 2006.

(d) Subject

Joint Aircraft System Component (JASC)/Air Transport Association (ATA) of America Code 27, Flight controls; 49, Airborne auxiliary power; and 51, Standard practices/structures.

(e) Unsafe Condition

This AD was prompted by reports of stiff operation of the elevator pitch control system and jammed elevator controls. We are issuing this AD to prevent moisture from collecting and freezing on the elevator control system components, which could limit the ability of the flightcrew to make elevator control inputs and result in reduced controllability of the airplane.

(f) Compliance

Comply with this AD within the compliance times specified, unless already done.

(g) Inspections and Corrective Actions

For airplanes identified in Boeing Service Bulletin 767-27-0204, Revision 2, dated August 16, 2011; and Boeing Service Bulletin 767-27-0205, Revision 2, dated August 30, 2011: At the applicable time specified in paragraph (g)(1) or (g)(2) of this AD, do a general visual inspection for dirt, loose particles, and blockage of the flanged tube and drain hole for the E1A and E1B elevator control cable aft pressure seals, and all applicable corrective actions, in accordance with the Accomplishment Instructions of Boeing Service Bulletin 767-27-0204, Revision 2, dated August 16, 2011 (for Model 767-200, -300, and -300F series airplanes); or Boeing Service Bulletin 767-27-0205, Revision 2, dated August 30, 2011 (for Model 767-400ER series airplanes). Do all applicable corrective actions before further flight. Repeat the inspection thereafter at intervals not to exceed 24 months.

(1) For airplanes on which Boeing Service Bulletin 767-27A0219 has been done as of the effective date of this AD: Within 24 months after the effective date of this AD.

(2) For airplanes on which Boeing Service Bulletin 767-27A0219 has not been done as of the effective date of this AD: Do the inspection at the time specified in paragraph (g)(2)(i) or (g)(2)(ii) of this AD, whichever occurs later.

(i) Within 24 months after the effective date of this AD.

(ii) Within 24 months since the date of issuance of the original airworthiness certificate or the date of issuance of the original export certificate of airworthiness.

(h) Replacement—Pressure Seal Assemblies

For Group 1, Configuration 1 and 2 airplanes; Group 2, Configuration 1 airplanes; and Group 4, Configuration 1 and 2 airplanes; as identified in Boeing Service Bulletin 767-27A0224, Revision 1, dated December 16, 2011: Within 24 months after the effective date of this AD, replace the two existing pressure seal assemblies for the left elevator control cables at the aft pressure bulkhead, in accordance with the Accomplishment Instructions of Boeing Service Bulletin 767-27A0224, Revision 1, dated December 16, 2011, except as provided by paragraphs (k)(9), (k)(10), (k)(11), and (k)(12) of this AD. Accomplishing this replacement terminates the inspections required by paragraph (g) of this AD.

(i) Replacement—Air-Intake Duct Assembly and Installation—Dripshield

For airplanes identified in Boeing Service Bulletin 767-49A0035, Revision 2, dated June 2, 2006: Within 18 months after the effective date of this AD, replace the aft air-intake duct assembly with a new or modified aft air-intake duct assembly and install a dripshield, in accordance with the Accomplishment Instructions of Boeing Service Bulletin 767-49A0035, Revision 2, dated June 2, 2006, except as provided by paragraphs (k)(1) and (k)(8) of this AD.

(j) Gutter Installation and Side Brace Modification

For airplanes identified in Boeing Service Bulletin 767-51A0027, Revision 1, dated October 12, 2006; and Boeing Service Bulletin 767-51A0028, Revision 1, dated October 12, 2006: Within 60 months after the effective date of this AD, install gutters on the horizontal stabilizer center section, and modify the side brace fittings, including doing a dye penetrant or high frequency eddy current inspection for cracking and damage of the drain hole and all applicable corrective actions, in accordance with the Accomplishment Instructions of Boeing Service Bulletin 767-51A0027, Revision 1, dated October 12, 2006 (for Model 767-200, -300, and -300F series airplanes); or Boeing Service Bulletin 767-51A0028, Revision 1, dated October 12, 2006 (for Model 767-400ER series airplanes); except as provided by paragraphs (k)(2), (k)(3), (k)(4), (k)(5), (k)(6), and (k)(7) of this AD.

(k) Exceptions to Service Information

(1) Where step 1 of Figure 4 of Boeing Service Bulletin 767-49A0035, Revision 2, dated June 2, 2006, specifies installing the forward air-intake duct, that installation is not required by this AD.

(2) Where Boeing Service Bulletin 767-51A0027, Revision 1, dated October 12, 2006; and Boeing Service Bulletin 767-51A0028, Revision 1, dated October 12, 2006; specify to contact Boeing for appropriate action: Before further flight, repair using a method approved in accordance with the procedures specified in paragraph (n) of this AD.

(3) Where step 8 in Figures 6 and 10 of Boeing Service Bulletin 767-51A0027, Revision 1, dated October 12, 2006; and Boeing Service Bulletin 767-51A0028, Revision 1, dated October 12, 2006; specify hydraulic hose, part number (P/N) AS115-08D0274, the correct part number is AS115-08D0280.

(4) For steps 4, 8, and 12 in Figures 6 and 10 of Boeing Service Bulletin 767-51A0027, Revision 1, dated October 12, 2006; and Boeing Service Bulletin 767-51A0028, Revision 1, dated October 12, 2006: Hydraulic hose, P/N AS115-08K0280, is an option to P/N AS115-08D0280.

(5) For steps 2, 6, and 10 in Figures 6 and 10 of Boeing Service Bulletin 767-51A0027, Revision 1, dated October 12, 2006; and Boeing Service Bulletin 767-51A0028, Revision 1, dated October 12, 2006: Hydraulic hose, P/N AS115-06K0274, is an option to P/N AS115-06D0274.

(6) Steps 3.B.16 and 3.B.17 of Boeing Service Bulletin 767-51A0027, Revision 1, dated October 12, 2006; and Boeing Service Bulletin 767-51A0028, Revision 1, dated October 12, 2006; are not required by this AD.

(7) Where note (d) of Figure 8 of Boeing Service Bulletin 767-51A0027, Revision 1, dated October 12, 2006; and Boeing Service Bulletin 767-51A0028, Revision 1, dated October 12, 2006; specifies to “install collars on the upper surface of the gutter,” this AD requires that operators install these bolts with the bolt heads either up or down provided that the bolt head direction prevents interference between the collars and the hydraulic lines.

(8) Where Boeing Service Bulletin 767-49A0035, Revision 2, dated June 2, 2006, specifies installing a new aft air-intake duct assembly on the first airplane in each operator's fleet and installing a reworked aft air-intake duct assembly on all remaining airplanes in each operator's fleet, this AD requires installing either a new or reworked aft air-intake duct assembly on all airplanes.

(9) For Group 4 airplanes, as identified in Boeing Service Bulletin 767-27A0224, Revision 1, dated December 16, 2011: Where Figures 7 through 10 of Boeing Service Bulletin 767-27A0224, Revision 1, dated December 16, 2011, specify to replace the seal plate assembly, this AD allows replacing the configuration having two seal plates, P/Ns 255T4847-1 and 65-28174-1, with the configuration having one seal plate, P/N 255T4847-5.

(10) For Group 1 through 3 airplanes, as identified in Boeing Service Bulletin 767-27A0224, Revision 1, dated December 16, 2011: Where Figures 1 and Figures 4 through 6 of Boeing Service Bulletin 767-27A0224, Revision 1, dated December 16, 2011, specify to replace the seal plate, this AD allows replacing the configuration having one seal plate, P/N 255T4847-5 with the configuration having two seal plates, P/Ns 255T4847-1 and 65-28174-1.

(11) Where steps 8 and 9 of Figure 4 and steps 8 and 9 of Figure 8 of Boeing Service Bulletin 767-27A0224, Revision 1, dated December 16, 2011, specify installing clamp P/N AN735-16, this AD allows, for airplanes having increased diameter of the flanged tube due to a repair, installation of a clamp, P/N AN735-( ), that has a larger diameter than P/N AN735-16.

(12) Where steps 1 and 4 of Figure 6 and steps 1 and 4 of Figure 10 of Boeing Service Bulletin 767-27A0224, Revision 1, dated December 16, 2011, specify installing bolts, this AD allows installation of bolts having P/N BACB30NT3K( ), BACB30LK3-( ), BACB30ZG3-( ), or NAS623-3-( ).

(l) Optional Replacement—Pressure Seal Assemblies

For Group 1, Configuration 3 and 4 airplanes; Group 2, Configuration 2 and 3 airplanes; Group 3 airplanes; and Group 4, Configuration 3 and 4 airplanes; as identified in Boeing Service Bulletin 767-27A0224, Revision 1, dated December 16, 2011: Replacing the two existing pressure seal assemblies for the left elevator control cables at the aft pressure bulkhead, in accordance with the Accomplishment Instructions of Boeing Service Bulletin 767-27A0224, Revision 1, dated December 16, 2011, except as provided by paragraphs (k)(9), (k)(10), (k)(11), and (k)(12) of this AD, terminates the inspections required by paragraph (g) of this AD.

(m) Credit for Previous Actions

(1) This paragraph provides credit for the actions required by paragraph (g) of this AD, if the actions were performed before the effective date of this AD using the applicable service information in paragraph (m)(1)(i) or (m)(1)(ii) of this AD, which are not incorporated by reference.

(i) For Model 767-200, -300, and -300F series airplanes: Boeing Service Bulletin 767-27-0204, dated January 27, 2005; or Boeing Service Bulletin 767-27-0204, Revision 1, dated February 12, 2009.

(ii) For Model 767-400ER series airplanes: Boeing Service Bulletin 767-27-0205, dated January 27, 2005; or Boeing Service Bulletin 767-27-0205, Revision 1, dated February 12, 2009.

(2) This paragraph provides credit for the actions required by paragraphs (h) and (l) of this AD, if the actions were performed before the effective date of this AD using Boeing Alert Service Bulletin 767-27A0224, dated June 23, 2011, which is not incorporated by reference.

(3) This paragraph provides credit for the actions required by paragraph (i) of this AD, if the actions were performed before the effective date of this AD using Boeing Alert Service Bulletin 767-49A0035, Revision 1, dated December 11, 2003, which is not incorporated by reference.

(4) This paragraph provides credit for the actions required by paragraph (j) of this AD, if the actions were performed before the effective date of this AD using Boeing Alert Service Bulletin 767-51A0027, dated December 9, 2004 (for Model 767-200, -300, and -300F series airplanes); or Boeing Alert Service Bulletin 767-51A0028, dated December 9, 2004 (for Model 767-400ER series airplanes); which are not incorporated by reference.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(o) Related Information

For more information about this AD, contact Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 767-27-0204, Revision 2, dated August 16, 2011.

(ii) Boeing Service Bulletin 767-27-0205, Revision 2, dated August 30, 2011.

(iii) Boeing Service Bulletin 767-27A0224, Revision 1, dated December 16, 2011.

(iv) Boeing Service Bulletin 767-49A0035, Revision 2, dated June 2, 2006.

(v) Boeing Service Bulletin 767-51A0027, Revision 1, dated October 12, 2006.

(vi) Boeing Service Bulletin 767-51A0028, Revision 1, dated October 12, 2006.

(3) For service information identified in this AD, contact Boeing Commercial Airplanes, Attention: Data & Services Management, P.O. Box 3707, MC 2H-65, Seattle, Washington 98124-2207; telephone 206-544-5000, extension 1; fax 206-766-5680; Internet https://www.myboeingfleet.com.

(4) You may view this service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 28, 2013.
Ali Bahrami,
Manager, Transport Airplane Directorate, Aircraft Certification Service.

[FR Doc. 2013-05588 Filed 3-20-13; 8:45 am]

BILLING CODE 4910-13-P